DEPARTMENT OF ENERGY

Federal Energy Regulatory Commission

[Project No. 6641-087; Project No. 6902-074; Project No. 10228-058]

American Municipal Power—Ohio, Inc.; Notice of Application for Approval of Contract Under Section 22 of the Federal Power Act

January 16, 2009.

Take notice that on January 12, 2009, American Municipal Power—Ohio, Inc. filed with the Commission an application for approval of a contract for the sale of power from its licensed Smithland Project No. 6641 and Cannelton Project No. 10228, and from the City of New Martinsville, West Virginia's licensed Willow Island Project No. 6902, for a period extending beyond the expiration of the existing licenses.¹ The projects are located on the Ohio River in West Virginia, Ohio, and Kentucky.

¹ The licenses for the Smithland, Cannelton, and Willow Island Projects expire on May 31, 2038, August 31, 2039, and May 31, 2041, respectively.

Section 22 of the Federal Power Act, 16 U.S.C. 815, provides that contracts for the sale and delivery of power for periods extending beyond the termination date of a license may be entered into upon the joint approval of the Commission and the appropriate state public service commission or other similar authority in the state in which the sale or delivery of power is made.

Comments on the request for approval of the power sales contract or motions to intervene may be filed with the Commission no later than February 17, 2009, and replies to comments no later than February 24, 2009. The Commission's Rules of Practice and Procedure require all intervenors filing documents with the Commission to serve a copy of that document on each person on the official service list for the project. Further, if an intervenor files comments or documents with the Commission relating to the merits of an issue that may affect the responsibilities of a particular resource agency, they must also serve a copy of the comments or documents on that resource agency.

All documents (an original and eight copies) must be filed with: Kimberly D. Bose, Secretary, Federal Energy Regulatory Commission, 888 First Street, NE., Washington, DC 20426. Please include the names “Smithland Project No. 6641, Willow Island Project No. 6902, and Cannelton Project No. 10228” on the first page of all documents.

Comments may be filed electronically via the Internet in lieu of paper. The Commission strongly encourages electronic filings. See 18 CFR 385.2001(a)(1)(iii) and the instructions on the Commission's Web site http://www.ferc.gov under the “eFiling” link.

A copy of the filing is available for review in the Commission's Public Reference Room or may be viewed on the Commission's Web site http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to these projects or other pending projects. For assistance, contact FERC Online Support.

Kimberly D. Bose,
Secretary.

[FR Doc. E9-1768 Filed 1-27-09; 8:45 am]

BILLING CODE 6717-01-P